DEPARTMENT OF COMMERCE

International Trade Administration

[A-421-807]

Notice of Final Determination of Sales at Less Than Fair Value; Certain Hot-Rolled Carbon Steel Flat Products From The Netherlands

AGENCY: Import Administration, International Trade Administration, Department of Commerce.

EFFECTIVE DATE: October 3, 2001.

ACTION: Notice of final determination of sales at less than fair value.

FOR FURTHER INFORMATION CONTACT: Melissa Blackledge, Mike Heaney, or Robert James at (202) 482-3518, (202) 482-4475, or (202) 482-0649, respectively; Antidumping and Countervailing Duty Enforcement Group III, Import Administration, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Tariff Act) by the Uruguay Round Agreements Act. In addition, unless otherwise indicated, all citations to Department of Commerce (Department) regulations refer to the regulations codified at 19 CFR part 351 (April 1, 2000).

Final Determinations

We determine that certain hot-rolled carbon steel flat products (hot-rolled steel) from the Netherlands are being sold, or are likely to be sold, in the United States at less than fair value (LTFV), as provided in section 735 of the Tariff Act. The estimated margins of sales at LTFV are shown in the “Suspension of Liquidation” section of this notice.

Case History

We published in the Federal Register the preliminary determination in this investigation on May 3, 2001. See Notice of Preliminary Determination of Sales at Less Than Fair Value: Certain Hot-Rolled Carbon Steel Flat Products from the Netherlands, 66 FR 22146(May 3, 2000) (Preliminary Determination). Since the publication of the Preliminary Determination the following events have occurred.

On May 22, 2001, the Corus Group plc (Corus), the respondent, requested that the Department postpone the final determination the full sixty days as permitted by the statute and the Department's regulations. On June 4, 2001, the Department postponed the final determination until no later than 135 days after publication of the preliminary determination in the Federal Register. See 66 FR 32600 (June 15, 2001).

The Department verified sections A through C of Corus Staal BV (Corus Staal's) responses from May 7 through May 11, 2001, at Corus Staal's headquarters in IJmuiden, the Netherlands. The Department also verified section D of Corus Staal's response from May 1 through May 5, 2001, at Corus Staal's headquarters. See Memorandum To The File; “Home Market Verification of the Corus Group plc's Questionnaire Response,” July 2, 2001 (Home Market Sales Verification Report) and Memorandum To Neal M. Halper, Acting Director, Office of Accounting; “Verification of the Cost of Production and Constructed Value Data Submitted by Corus Staal BV,” June 15, 2001 (Home Market Cost Verification Report). From June 6 through June 7, 2001, the Department verified the responses submitted by Corus Staal relating to Rafferty-Brown of North Carolina (RBN) and Rafferty-Brown of Connecticut (collectively, the Rafferty-Brown Companies), at RBN's offices in Greensboro, North Carolina. See Memorandum To The File; “U.S. Verification of the Corus Group plc's Questionnaire Response”, July 5, 2001 (U.S. Market Verification Report). Public versions of these, and all other Departmental memoranda referred to herein, are on file in the Central Records Unit, room B-099 of the main Commerce building.

On June 4, 2001, respondent and petitioners requested a public hearing. Petitioners submitted a letter on June 15, 2001, requesting that a product referred to as “battery-quality hot-rolled steel” continue to be included in the scope of the investigation and in any antidumping order to be issued in this case. On July 30, 2001, both the respondent and petitioners filed their case briefs with the Department. On July 31, 2001, petitioners submitted a letter informing the Department of a change in the name of one of the petitioners, from “U.S. Steel Group, a unit of USX Corporation” to “United States Steel LLC”. We received rebuttal briefs from all parties on August 6, 2001. The hearing scheduled for August 9, 2001, was cancelled on August 8, 2001, at the request of both parties. Although the deadline for this determination was originally September 17, 2001, in light of the events of September 11, 2001, and the subsequent closure of the Federal Government for reasons of security, the time frame for issuing this determination has been extended by four days.

Period of Investigation

The period of investigation (POI) is October 1, 1999 through September 30, 2000.

Export Price Sales

As a result of our findings at verification we have reclassified certain sales as export price sales because we determined the sales were concluded between Corus Staal in the Netherlands and the first unaffiliated U.S. customer before the date of importation into the United States. See “Final Determination Analysis Memorandum,” dated September 21, 2001.

Analysis of Comments Received

All issues raised in the case and rebuttal briefs by parties to this investigation are addressed in the “Issues and Decision Memorandum” (Decision Memorandum) from Joseph A. Spetrini, Deputy Assistant Secretary, Import Administration, to Faryar Shirzad, Assistant Secretary for Import Administration, dated September 21, 2001, which is hereby adopted and incorporated by reference into this notice. A list of the issues which parties have raised and to which we have responded is attached to this notice as an Appendix. Parties can find a complete discussion of all issues raised in this review and the corresponding recommendations in this public decision memorandum which is on file in B-099.

In addition, a complete version of the Decision Memorandum can be accessed directly on the World Wide Web at ia.ita.doc.gov/frn/frnhome. The paper copy and electronic version of the Decision Memorandum are identical in content.

Scope of Investigation

For a description of the scope of this investigation, see the “Scope of Investigation” section of the Decision Memorandum, which is on file in B-099 and available on the Web at ia.ita.doc.gov/frn/frnhome.

Use of Facts Available

For a discussion of our application of facts available, see the “Facts Available” section of the Decision Memorandum, which is on file in B-099 and available on the Web at ia.ita.doc.gov/frn/frnhome.

Changes Since the Preliminary Determination

Based on our analysis of comments received and findings at verification, we have made certain changes in the margin calculations. We have also corrected certain programming and clerical errors in our preliminary results, where applicable. Any allegations of programming or clerical errors with which we do not agree are discussed in the relevant sections of the “Decision Memorandum,” accessible in B-099 and on the Web at ia.ita.doc.gov/frn/.

Suspension of Liquidation

Pursuant to section 735(c)(1)(B) of the Tariff Act, we are instructing Customs to continue to suspend liquidation of all entries of certain hot-rolled carbon steel flat products from the Netherlands that are entered, or withdrawn from warehouse, for consumption on or after May 3, 2001, the date of publication of the Preliminary Determination. The Customs Service shall continue to require a cash deposit or the posting of a bond based on the estimated weighted-average dumping margins shown below. The suspension of liquidation instructions will remain in effect until further notice.

We determine that the following weighted-average dumping margins exist for the period October 1, 1999 through September 30, 2000:

Exporter/ Manufacturer | Weighted-average margin (percent)
Corus Staal BV | 3.06
All Others | 3.06

ITC Notification

In accordance with section 735(d) of the Tariff Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue an antidumping order directing Customs officials to assess antidumping duties on all imports of the subject merchandise entered, or withdrawn from warehouse for consumption on or after the effective date of the suspension of liquidation.

This determination is issued and published in accordance with sections 735(d) and 777(i)(1) of the Tariff Act.

Dated: September 21, 2001.
Faryar Shirzad,
Assistant Secretary for Import Administration.

Appendix I—Issues in Decision Memo

Comments and Responses

1. The Zeroing Methodology

2. Affiliation

3. Ordinary Course of Trade

4. Level of Trade

5. Interest Factor

6. Scope of the Order

7. Rebates

8. Inventory Carrying Costs

9. Non-prime Merchandise

10. Further Manufacturing Expenses

11. Gross Unit Price

12. Affiliated Party Inputs

13. Allocation of Costs

14. Unreported U.S. Sales

15. Interest Revenue

[FR Doc. 01-24754 Filed 10-2-01; 8:45 am]

BILLING CODE 3510-DS-P